DEPARTMENT OF LABOR

Employment and Training Administration

[TA-W-82,697]

AT&T Corporation; a Subsidiary of AT&T Inc.; Business Billing Customer Care; Pittsburgh, Pennsylvania; Notice of Negative Determination on Reconsideration

On October 23, 2013, the Department of Labor (Department) issued an Affirmative Determination Regarding Application for Reconsideration for the workers and former workers of AT&T Corporation, a subsidiary of AT&T Inc., Business Billing Customer Care, Pittsburgh, Pennsylvania (hereafter referred to as “the subject firm”). Workers at the subject firm were engaged in activities related to the supply of billing inquiry and billing dispute resolution services.

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The negative determination was based on the Department's findings that there no increased imports, during the relevant period, of services like or directly competitive with the billing inquiry and billing dispute resolution services supplied by the subject workers; the subject firm has not shifted the supply of services like or directly competitive with the billing inquiry and billing dispute resolution services supplied by the subject workers to a foreign country or acquired the supply of billing inquiry and billing dispute resolution services from a foreign country; the worker separations are attributable to a shift of billing inquiry and billing dispute resolution services to other locations within the United States; the subject firm is not a Supplier to, or act as a Downstream Producer to, a firm that employed a group of workers who received a certification of eligibility under Section 222(a) of the Act, 19 U.S.C. 2272(a); and the workers' firm has not been publicly identified by name by the International Trade Commission as a member of a domestic industry in an investigation resulting in an affirmative finding of serious injury, market disruption, or material injury, or threat thereof.

The request for reconsideration alleges that the subject firm has shifted billing services, ordering services, and/or customer support services to Slovakia, Mexico, India, and/or the Philippines. The worker requesting reconsideration also supplied additional information in regard to employment figures at the aforementioned locations and subsequently submitted multiple documents and attachments related to the afore-mentioned allegations.

During the course of the reconsideration investigation, the subject firm addressed the afore-mentioned allegations and confirmed the meaning of multiple documents and attachments provided by the worker requesting reconsideration.

During the reconsideration investigation, the Department received information which confirmed that the subject firm has not imported, during the relevant period, any services like or directly competitive with billing inquiry and billing dispute resolution services supplied by workers of the subject firm; the subject firm did not shift the supply of services like or directly competitive with the billing inquiry and billing dispute resolution services supplied by workers of the subject firm, and; the subject firm did not acquire from a foreign country the supply of services like or directly competitive with the billing inquiry and billing dispute resolution services supplied by workers of the subject firm.

Additional information obtained from the subject firm during the reconsideration investigation revealed that the subject firm does not import any finished products that incorporate services like or directly competitive with the services supplied by the subject firm.

Therefore, after careful review of the request for reconsideration, the Department determines that 29 CFR 90.18(c) has not been met.

Conclusion

After careful review, I determine that the requirements of Section 222 of the Act, 19 U.S.C. 2272, have not been met and, therefore, deny the petition for group eligibility of AT&T Corporation, a subsidiary of AT&T Inc., Business Billing Customer Care, Pittsburgh, Pennsylvania, to apply for adjustment assistance, in accordance with Section 223 of the Act, 19 U.S.C. 2273.

Signed in Washington, DC, on this 7th day of May, 2014.
Del Min Amy Chen,
Certifying Officer, Office of Trade Adjustment Assistance.

[FR Doc. 2014-11637 Filed 5-20-14; 8:45 am]

BILLING CODE 4510-FN-P